DEPARTMENT OF ENERGY

Western Area Power Administration

Pick-Sloan Missouri Basin Program—Eastern Division—Proposed Extension of the Transmission Service Rate Schedules—Rate Order No. WAPA-100

AGENCY: Western Area Power Administration, DOE.

ACTION: Notice of Proposed Extension of the Transmission Service Rate Schedules.

SUMMARY: This action is a proposal to extend the existing Pick-Sloan Missouri Basin Program—Eastern Division (P-SMBP-ED) Transmission Service Rate Schedules UGP-AS1, UGP-AS2, UGP-AS3, UGP-AS4, UGP-AS5, UGP-AS6, UGP-FTP1, UGP-NFPT1, and UGP-NT1 of Rate Order No. WAPA-79, through September 30, 2005. The existing Transmission Service Rate Schedules will expire July 31, 2003. These Transmission Service Schedules contain formulary rates that are recalculated from yearly updated financial and load data. This notice of proposed extension of rates is issued pursuant to 10 CFR part 903.23(a)(1). Consistent with these regulations, Western Area Power Administration (Western) will not hold a consultation and comment period.

FOR FURTHER INFORMATION CONTACT: Mr. Robert F. Riehl, Rates Manager, Upper Great Plains Customer Service Region, Western Area Power Administration, P.O. Box 35800, Billings, MT 59107-5800, (406) 247-7388, or e-mail riehl@wapa.gov.

SUPPLEMENTARY INFORMATION: By Delegation Order No. 00-0037.00 effective December 6, 2001, the Secretary of Energy delegated: (1) The authority to develop long-term power and transmission rates on a non-exclusive basis to Western's Administrator; (2) the authority to confirm, approve, and place such rates into effect on an interim basis to the Deputy Secretary; and (3) the authority to confirm, approve, and place into effect on a final basis, to remand, or to disapprove such rates to the Federal Energy Regulatory Commission (FERC).

Pursuant to Delegation Order No. 0204-108 and existing Department of Energy procedures for public participation in rate adjustments at 10 CFR part 903, Western's P-SMBP-ED Transmission Service Rate Schedules were submitted to FERC for confirmation and approval on August 3, 1998. On November 25, 1998, in Docket No. EF98-5031-000 at 85 FERC ¶ 61,273, FERC issued an order confirming, approving, and placing into effect on a final basis the Transmission Service Rate Schedules for the P-SMBP-ED. The Transmission Service Rate Schedules, Rate Order No. WAPA-79, were approved for 5 years beginning August 1, 1998, and ending July 31, 2003.

Western is currently evaluating several options for joining the Midwest Independent System Operator, a FERC-approved Regional Transmission Organization. That decision could redefine our current rate provisions. Therefore, Western believes it is premature to proceed with a formal rate process at this time. Extending the existing Transmission Service Rate Schedules to September 30, 2005, should provide enough time to complete our evaluation process. Western proposes to extend the current rate schedules pursuant to 10 CFR part 903. Upon its approval, Rate Order No. WAPA-79 will be extended under Rate Order No. WAPA-100.

Western's existing formulary Transmission Service Rate Schedules, which are recalculated annually, would sufficiently recover project expenses (including interest) and capital requirements through September 30, 2005.

All documents made or kept by Western for developing the proposed extension of the Transmission Service Rate Schedules will be made available for inspection and copying at the Upper Great Plains Customer Service Region, located at 2900 4th Avenue North, Billings, Montana.

Thirty days after publication of this notice Rate Order No. WAPA-100 will be submitted to the Deputy Secretary for approval through September 30, 2005.

Dated: February 14, 2003.
Michael S. Hacskaylo,
Administrator.

[FR Doc. 03-4995 Filed 3-3-03; 8:45 am]

BILLING CODE 6450-01-P